DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: The Ricky Ray Hemophilia Relief Fund Program (OMB No. 0915-0244)—Revision

The Ricky Ray Hemophilia Relief Fund Act of 1998 (Pub. L. 105-369) established a trust fund to provide for compassionate payments with regard to certain individuals with blood-clotting disorders, such as hemophilia, who contracted HIV due to contaminated antihemophilic factor within specified time periods. The statute mandated payments to any individual with HIV who has any blood-clotting disorder and was treated with antihemophilic factor any time between July 1, 1982, and December 31, 1987. The Act also provides for payments to certain persons who contracted HIV from the foregoing individuals. Specified survivors of these categories of individuals may also receive payments. In order to receive a payment, either the individual who is eligible for payment, or his or her personal representative, must file a petition for payment with sufficient documentation to prove that he or she meets the requirements of the statute. This data collection is required to provide the necessary medical and legal documentation that establishes eligibility for payment.

The estimated annual response burden is as follows:

Form | Number of respondents | Responses per respondent | House per response | Total hour burden
Petition form and Supporting Documentation | 1,350 | 1 | 3 | 4,050
Physician Documentation | 675 | 1 | 1 | 675
Total | 2,025 |  |  | 4,725

Send comments to: John Morrall, Human Resources and Housing Branch, Office of Management and Budget, New Executive Office Building, Room 10235, Washington, DC, 20503. Written comments should be received within 30 days of this notice.

Dated: October 6, 2000.
Jane Harrison,
Director, Division of Policy Review and Coordination.

[FR Doc. 00-26330 Filed 10-12-00; 8:45 am]

BILLING CODE 4160-15-U